ENVIRONMENTAL PROTECTION AGENCY

[FRL-8242-3]

Listening Session on Exploring Bottled Water as an Alternative Compliance Option in Limited Situations for Non-Transient, Non-Community Water Systems

AGENCY: Environmental Protection Agency.

ACTION: Notice.

SUMMARY: The U.S. Environmental Protection Agency (EPA) is announcing a listening session on the viability of bottled water as an alternative compliance option for chronic contaminants regulated under the Safe Drinking Water Act (SDWA). The purpose of this meeting is to identify information and data needed for EPA to evaluate the efficacy of bottled water as an alternative compliance option for non-transient, non-community water systems.

DATES: The listening session will be held in Washington, DC, on Tuesday, December 12, 2006, from 8:30 a.m. to 5 p.m. Registration will open at 8 a.m.

ADDRESSES: The listening session will take place at RESOLVE, Inc., 1255 23rd St., NW., Suite 275, Washington, DC 20037.

FOR FURTHER INFORMATION CONTACT: Interested participants from the public should contact Jennifer Moller, U.S. Environmental Protection Agency, Office of Ground Water and Drinking Water, Drinking Water Protection Division (Mail Code 4606M), 1200 Pennsylvania Avenue, NW., Washington, DC 20460. There is no charge for attending this workshop as an observer, but seats are limited, so register as soon as possible. Please contact Jennifer Moller at Moller.Jennifer@epa.gov or call 202-564-3891 to receive additional details.

SUPPLEMENTARY INFORMATION: Background: At the request of the Association of State Drinking Water Administrators (ASDWA), EPA is convening a meeting to discuss information needed to explore whether and in what limited situations bottled water may be a safe and effective alternative compliance option to treatment technology and point-of-use devices. Under the Safe Drinking Water Act (SDWA) bottled water is allowed for use in very limited situations, such as in emergency situations or as a temporary measure under variances and exemptions. There is no statutory prohibition on the use of bottled water to achieve compliance. However, bottled water is prohibited by regulation (40 CFR 141.101) for use by a public water system to achieve compliance with a maximum contaminant level (MCL).

Public Comment: An opportunity for public comment will be provided during the listening session. Oral statements will be limited to five minutes; it is preferred that only one person present the statement on behalf of a group or organization. Written comments may be provided at the meeting or may be sent by mail to Jennifer Moller at the mail or e-mail address listed in the FOR FURTHER INFORMATION CONTACT section of this notice.

Special Accommodations: For information on access or services for individuals with disabilities, please contact Jennifer Moller at Moller.Jennifer@epa.gov. To request accommodation of a disability, please contact Jennifer Moller, preferably at least 10 days prior to the meeting, to give EPA as much time as possible to process your request.

Dated: November 8, 2006.
Cynthia C. Dougherty,
Director, Office of Ground Water and Drinking Water.

[FR Doc. E6-19266 Filed 11-14-06; 8:45 am]

BILLING CODE 6560-50-P